DEPARTMENT OF AGRICULTURE

Submission for OMB Review; Comment Request; Correction

April 20, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Brucellosis Program.

OMB Control Number: 0579-0047.

Summary of Collection: Brucellosis is a contagious animal disease that causes loss of young through spontaneous abortion or birth of weak offspring, reduced milk production, and infertility. It is mainly a disease of cattle, bison and swine. There is no economically feasible treatment for brucellosis in livestock. Veterinary Services, a division with USDA's Animal and Plant Health Inspection Service (APHIS), is responsible for administering regulations intended to prevent the dissemination of animal diseases, such as brucellosis, within the United States. These regulations are found in Part 78 of Title 9, Code of Federal Regulations. The continued presence of brucellosis in a herd seriously threatens the health of other animals. APHIS will collect information using various forms.

Need and Use of the Information: APHIS will use the information collected from the forms to continue to search for other infected herds, maintain identification of livestock, monitor deficiencies in identification of animals for movement, and monitor program deficiencies in suspicious and infected herds. This information will be used to determine brucellosis area status and aids herd owners by speeding up the detection and elimination of serious disease conditions in their herds. Without the data, APHIS' Brucellosis Eradication Program would be severely crippled.

Description of Respondents: Business; State, local or tribal government.

Number of Respondents: 117,446.

Frequency of Responses: Recordkeeping; Reporting: On occasion.

Total Burden Hours: 440,584.

Animal & Plant Health Inspection Service

Title: Citrus from Peru.

OMB Control Number: 0579-0289.

Summary of Collection: The Plant Protection Act (7 U.S.C. 7701 et seq.) authorizes the Secretary of Agriculture to restrict the importation, entry, or interstate movement of plants, plant products, and other articles to prevent the introduction of plant pests into the United States or their dissemination within the United States. The Animal and Plant Health Inspection Service (APHIS) amended the fruits and vegetables regulations to allow the importation, under certain conditions of fresh commercial citrus fruit (grapefruit, limes, mandarin oranges, or tangerines, sweet oranges, and tangelos) from approved areas of Peru into the United States.

Need and Use of the Information: APHIS will collect information that includes inspections by national plant protection organization officials from Peru, grower registration and agreement, fruit fly trapping, monitoring, recordkeeping, and phytosanitary certificate. Without the information APHIS could not verify that fruit was treated, verify that citrus canker, fruit flies, and other pests were destroyed by treatment, or that the treatment was adequate to prevent the risk of plant pests from entering the United States.

Description of Respondents: Not-for-profit institutions.

Number of Respondents: 53.

Frequency of Responses: Recordkeeping; Reporting: On occasion.

Total Burden Hours: 11,080.

Ruth Brown,
Departmental Information Collection Clearance Officer.

[FR Doc. E9-9319 Filed 4-22-09; 8:45 am]

BILLING CODE 3410-34-P